DEPARTMENT OF TRANSPORTATION

Pipeline and Hazardous Materials Safety Administration

Pipeline Safety: 2025 Pipeline Data Public Meeting

AGENCY: Pipeline and Hazardous Materials Safety Administration (PHMSA), Department of Transportation (DOT).

ACTION: Notice of public meeting.

SUMMARY: This notice announces a public meeting to discuss how data collected from pipeline operators can be used to improve pipeline and public safety. Discussion topics include how data collected by PHMSA is currently used by stakeholders, displayed on the PHMSA website, and used to generate pipeline safety performance measures. PHMSA is also interested in identifying data that is collected but not used by any stakeholders, as well as data that should be collected but is not. The meeting will be recorded but there will not be a live webcast.

DATES: The public meeting on pipeline data will be held on Thursday, September 18, 2025, from 8:00 a.m. to 5:00 p.m. CST, and Friday, September 19, 2025, from 8:00 a.m. to 5:00 p.m. CST. Name badge pickup and onsite registration will be available starting at 7:30 a.m. on both days.

Registration: Please register at “2025 Pipeline Data Public Meeting”—PHMSA Public Meetings. Please note that the meeting will be recorded but will not be webcast. After the meeting, a link to the recording will be posted on the registration page. Anyone who would like to attend the meeting should register by September 11, 2025. Individuals requiring accommodations, such as sign language interpretation or other ancillary aids, should notify Janice Morgan by phone at 202-815-4507 or by email at janice.morgan@dot.gov by no later than August 24, 2025. For additional information, see the ADDRESSES section of this notice.

ADDRESSES: The public meeting will be held in Houston, Texas. Additional details about the location and an agenda will be posted to the registration page, “2025 Pipeline Data Public Meeting”—PHMSA Public Meetings, by August 17, 2025.

FOR FURTHER INFORMATION CONTACT: Blaine Keener by phone at 202-366-0970 or by email at blaine.keener@dot.gov.

SUPPLEMENTARY INFORMATION: PHMSA will hold this public meeting to provide an open forum for exchanging information about how pipeline data can be used to improve pipeline and public safety. Discussion topics include what data is collected and how it is used by stakeholders as well as how performance measures could be improved. Various stakeholders—including Federal and state regulatory agencies, industry, advocacy groups, and the media—often use data collected and made public by PHMSA to describe the integrity of pipeline infrastructure, portray safety trends, or identify emerging safety concerns. This data is also often used to evaluate the safety performance of individual companies and the overall industry, as well as the effectiveness of the regulatory process. PHMSA uses operator submitted data to identify which pipeline systems will be inspected in a given year, and to develop inspection plans based on the system's and the company's apparent safety strengths and weaknesses. Operators use data to improve safety by identifying and mitigating threats and risks on their systems.

PHMSA regulations require integrity management program performance measures for gas distribution pipelines (49 Code of Federal Regulations (CFR) § 192.1007(e)), gas transmission pipelines (49 CFR 192.945), and hazardous liquids pipelines (49 CFR 195.452(k)). The information exchanged at this public meeting will help inform PHMSA as it considers improvements to integrity management performance measures. Information on potential key performance indicators for use within pipeline safety management systems (PSMSs) will also be presented.

The overall meeting objectives, subject to modification based on stakeholder input, are to:

1. Share with participants the types of data PHMSA collects and uses for inspection planning, rulemaking, and other activities.

2. Determine how stakeholders—including industry and the public—use the data.

3. Identify what data is not used by any stakeholders.

4. Identify data not currently collected that, if shared with PHMSA and other stakeholders, could improve safety.

5. Determine how industry and PHMSA measure performance and how these performance measures can be improved.

6. Identify opportunities to enhance the data PHMSA displays on its website.

7. Identify key performance indicators that could be used within a PSMS.

All presentations made during the meeting will be available on the registration page after the meeting.

Public Participation: The meeting will be open to the public. Members of the public who wish to attend must register on the meeting website, including their names and organizational affiliation. PHMSA is committed to providing all participants with equal access to these meetings. If you need disability accommodations, please contact Janice Morgan by email at janice.morgan@dot.gov.

PHMSA is not always able to publish a notice in the Federal Register quickly enough to provide timely notification of last-minute changes that impact scheduled meetings. Therefore, individuals should check the meeting registration page, “2025 Pipeline Data Public Meeting”—PHMSA Public Meetings, for any possible changes.

Issued in Washington, DC, on July 30, 2025, under authority delegated in 49 CFR 1.97.
Linda Daugherty,
Acting Associate Administrator for Pipeline Safety.

[FR Doc. 2025-14600 Filed 7-31-25; 8:45 am]

BILLING CODE P